DEPARTMENT OF TRANSPORTATION

Federal Aviation Administration

14 CFR Part 39

[Docket No. 2001-CE-20-AD; Amendment 39-12433; AD 2001-18-07]

RIN 2120-AA64

Airworthiness Directives; Raytheon Aircraft Company Beech Models 1900, 1900C, and 1900D Airplanes

AGENCY: Federal Aviation Administration, DOT.

ACTION: Final rule.

SUMMARY: This amendment adopts a new airworthiness directive (AD) that applies to certain Raytheon Aircraft Company (Raytheon) Beech Models 1900, 1900C, and 1900D airplanes. This AD requires you to inspect all four flap flexible shaft assemblies for the correct diagonal wrap and the correct installation. This AD also requires you to replace any flap flexible shaft assembly that has an incorrect diagonal wrap or incorrect installation. This AD is the result of several occurrences of flap extension/retraction failures on the affected airplanes due to the inner flexible shaft ends separating or disengaging. The actions specified by this AD are intended to prevent these flap extension/retraction failures due to incorrectly configured flap flexible shaft assemblies. Such failure could result in an asymmetric flap condition during flight if the flap safety switch fails to function properly.

DATES: This AD becomes effective on October 12, 2001.

The Director of the Federal Register approved the incorporation by reference of certain publications listed in the regulations as of October 12, 2001.

ADDRESSES: You may get the service information referenced in this AD from Raytheon Aircraft Company, P.O. Box 85, Wichita, Kansas 67201-0085; telephone: (800) 429-5372 or (316) 676-3140. You may view this information at the Federal Aviation Administration (FAA), Central Region, Office of the Regional Counsel, Attention: Rules Docket No. 2001-CE-20-AD, 901 Locust, Room 506, Kansas City, Missouri 64106; or at the Office of the Federal Register, 800 North Capitol Street, NW., suite 700, Washington, DC.

FOR FURTHER INFORMATION CONTACT: Paul DeVore, Aerospace Engineer, FAA, Wichita Aircraft Certification Office, 1801 Airport Road, Mid-Continent Airport, Wichita, Kansas 67209; telephone: (316) 946-4142; facsimile: (316) 946-4407.

SUPPLEMENTARY INFORMATION:

Discussion

What Events Have Caused This AD?

The FAA has received reports of flap extension/retraction system failures on Raytheon Model 1900D airplanes. The failures occurred when the inner flexible shaft ends separated or disengaged. One of these failures resulted in an asymmetric flap condition when the flap safety switch failed to function properly.

The flap flexible shafts are designed to carry more torque in one direction than the other. If installed on the wrong side of the airplane, the excessive torque load leads to these failures. Raytheon informed us that the flap flexible shafts may have been installed on the wrong side of the airplane on certain Beech Models 1900, 1900C, and 1900D airplanes.

What Are the Consequences if the Condition Is Not Corrected?

Flap extension/retraction failures caused by incorrectly configured flap flexible shaft assemblies could result in loss of flap function or an asymmetric flap condition during flight if the flap safety switch fails to function properly.

Has FAA Taken Any Action to This Point?

The FAA issued a proposal to amend part 39 of the Federal Aviation Regulations (14 CFR part 39) to include an AD that would apply to certain Raytheon Beech Models 1900, 1900C, and 1900D airplanes. This proposal was published in the Federal Register as a notice of proposed rulemaking (NPRM) on June 5, 2001 (66 FR 30093). The NPRM proposed to require you to inspect the inner flexible (drive) shaft of all four flap flexible shaft assemblies for the correct diagonal wrap and the correct installation; and replace any flap flexible shaft assembly that has an incorrect diagonal wrap or incorrect installation.

Was the Public Invited To Comment?

The FAA encouraged interested persons to participate in the making of this amendment. We did not receive any comments on the proposed rule or on our determination of the cost to the public.

FAA's Determination

What Is FAA's Final Determination on This Issue?

After careful review of all available information related to the subject presented above, FAA has determined that air safety and the public interest require the adoption of the rule as proposed except for minor editorial corrections. We determined that these minor corrections:

—Will not change the meaning of the AD; and

—Will not add any additional burden upon the public than was already proposed.

Cost Impact

How Many Airplanes Does This AD Impact?

The FAA estimates that this AD affects 205 airplanes in the U.S. registry.

What Is the Cost Impact of This AD on Owners/Operators of the Affected airplanes?

We estimate the following costs to accomplish the inspection:

Labor cost | Parts cost | Total cost per airplane | Total cost on U.S. operators
2 workhours × $60 per hour = $120 | No parts required for the inspection | $120 per airplane | $24,600

We estimate the following costs to accomplish any necessary replacements that will be required based on the results of the inspection. We have no way of determining the number of airplanes that may need such replacements.

Labor cost | Parts cost | Cost per flap shaft
8 workhours per flap shaft × $60 per hour = $480 | $232 per flap shaft | $712 per flap shaft (total of four per airplane).

The manufacturer will provide warranty credit for labor and parts to the extent noted under the Warranty Credit section of Raytheon Mandatory Service Bulletin SB 27-3397, Issued: January, 2001.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-18-07 Raytheon Aircraft Company: Amendment 39-12433; Docket No. 2001-CE-20-AD.

(a) What airplanes are affected by this AD? This AD affects the following airplane models and serial numbers that are certificated in any category:

Model | Serial No.
Beech Model 1900 | UA-2 and UA-3.
Beech Model 1900C | UB-1 through UB-74 and UC-1 through UC-174.
Beech Model 1900C (C-12J) | UD-1 through UD-6.
Beech Model 1900D | UE-1 through UE-345; UE-347 through UE-361; UE-364; UE-367; UE-373; and UE-379.

(b) Who must comply with this AD? Anyone who wishes to operate any of the above airplanes must comply with this AD.

(c) What problem does this AD address? The actions specified by this AD are intended to prevent flap extension/retraction failures due to incorrectly configured flap flexible shaft assemblies. Such failure could result in an asymmetric flap condition during flight if the flap safety switch fails to function properly.

(d) What actions must I accomplish to address this problem? To address this problem, you must accomplish the following:

Actions | Compliance | Procedures
(1) Inspect the inner flexible (drive) shaft of all four flap flexible shaft assemblies for the correct diagonal wrap and the correct installation | Within the next 200 hours time-in-service (TIS) after October 12, 2001 (the effective date of this AD), unless already accomplished | In accordance with the ACCOMPLISHMENT INSTRUCTIONS section of Raytheon Aircraft Mandatory Service Bulletin SB 27-3397, Issued: January, 2001.
(2) Replace any flap flexible shaft assembly found to-have an incorrect diagonal wrap or incorrect installation during the inspection required by paragraph (d)(1) of this AD | Prior to further flight after the inspection required in paragraph (d)(1) of this AD | In accordance with the ACCOMPLISHMENT INSTRUCTIONS section of Raytheon Aircraft Mandatory Service Bulletion SB 27-3397, Issued: January, 2001, and applicable maintenance manual.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Paul DeVore, Aerospace Engineer, FAA, Wichita Aircraft Certification Office, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? You must accomplish the actions required by this AD in accordance with Raytheon Aircraft Mandatory Service Bulletin SB 27-3397, Issued: January, 2001. The Director of the Federal Register approved this incorporation by reference under 5 U.S.C. 552(a) and 1 CFR part 51. You can get copies from Raytheon Aircraft Company, P.O. Box 85, Wichita, Kansas 67201-0085; telephone: (800) 429-5372 or (316) 676-3140. You can look at copies at the FAA, Central Region, Office of the Regional Counsel, 901 Locust, Room 506, Kansas City, Missouri, or at the Office of the Federal Register, 800 North Capitol Street, NW, suite 700, Washington, DC.

(i) When does this amendment become effective? This amendment becomes effective on October 12, 2001.

Issued in Kansas City, Missouri, on August 28, 2001.
Larry E. Werth,
Acting Manager, Small Airplane Directorate, Aircraft Certification Service.

[FR Doc. 01-22174 Filed 9-5-01; 8:45 am]

BILLING CODE 4910-13-U